SMALL BUSINESS ADMINISTRATION

Data Collection Available for Public Comments

ACTION: 60-Day notice and request for comments.

SUMMARY: The Small Business Administration (SBA) plans to seek approval from the Office of Management and Budget (OMB) to conduct the data collection activities described below. The Paperwork Reduction Act requires federal agencies to publish a notice in the Federal Register concerning each proposed collection of information to OMB, and to allow 60 days for the public to comment in response to the notice. This notice complies with such requirements and announces the SBA's proposal to conduct a survey of cluster administrators, small businesses, and large organizations who participated in the SBA's Regional Innovation Cluster (RIC) Initiative.

DATES: Submit comments on or before September 13, 2022.

ADDRESSES: Send all comments to Philip T. Gibson; Office of Entrepreneurship Education; philip.gibson@sba.gov, 409 3rd Street SW, Washington, DC 20416.

FOR FURTHER INFORMATION CONTACT: Philip T. Gibson; Office of Entrepreneurship Education; philip.gibson@sba.gov, 409 3rd Street SW, Washington, DC 20416, or Curtis B. Rich, Management Analyst, 202-205-7030, curtis.rich@sba.gov.

SUPPLEMENTARY INFORMATION: This is a request for a revision of a currently approved collection (OMB number: 3245-0392). Through the RIC initiative, SBA is investing in regional clusters—geographic concentrations of interconnected companies, specialized suppliers, academic institutions, service providers, and associated organizations with a specific industry focus—throughout the United States that span a variety of industries. The three primary goals of the initiative are to (1) increase opportunities for small business participation within clusters, (2) promote innovation in the industries on which the clusters are focused, and (3) enhance economic development and growth in cluster regions. To achieve these goals, the clusters provide a host of services to the target population of small and emerging businesses within their regional and industry focuses. Services include direct business advising and support and sponsoring events, such as networking opportunities with investors, large businesses and other stakeholders in the regions. This information collection is necessary for SBA to understand the progress of the RIC initiative toward achieving its goals.

The evaluation consists of two key components: an implementation evaluation and an outcome evaluation. The implementation evaluation focuses on how the Initiative is implemented across the 12 clusters and on the services that each cluster provides to its small businesses. The outcome evaluation focuses on short- and intermediate-term outcomes linked directly to the cluster services, as well as on long-term business outcomes that can be reasonably expected to result from the short- and intermediate-term outcomes. The short-term outcomes include the satisfaction and the perceived effectiveness of the program for business management and growth. The intermediate outcomes include development of new products, commercialization of new technologies, marketing and export services, improved access to capital, and industry integration. Long-term outcomes include increased revenue and employment. Over the previous years, evaluation results have helped to track the program performance outcomes and provide suggestions for program improvements to better facilitate innovation and small business growth. Furthermore, the evaluation survey data helped the SBA to better focus cluster activities on local contexts, particularly for rural and agricultural small businesses. This data will not be used to evaluate the effectiveness of an individual cluster.

The data collection effort involves three types of RIC initiative stakeholders: small businesses, large organizations, and cluster administrators. Small businesses participating in the cluster will be sent an online survey to provide data about their cluster participation experiences, satisfaction with the program and its components, the performance of their firms with respect to a variety of outcomes, and the role of cluster participation in the achievement of these outcomes. Similarly, large organizations—a broad group that includes universities, public sector agencies, nonprofit organizations, and business associations—will be asked to complete an online survey to provide data about their experiences with the RIC Initiative. The questions include reasons for the RIC participation, collaboration with and support for small businesses, and the role of cluster participation on key organizational outcomes associated with the RIC participation. The RIC administrators will be asked to complete a survey that provides the framework of the surveys that the small business and large organizations are sent. The administrator survey requests information about the services they provided to these two groups of stakeholders, and their operations in general. Cluster administrators will also be interviewed once a year to obtain information about how their operations have evolved, the adjustments they made, best practices, issues encountered, and the lessons learned.

Solicitation of Public Comments

SBA is requesting comments on (a) Whether the collection of information is necessary for the agency to properly perform its functions; (b) whether the burden estimates are accurate; (c) whether there are ways to minimize the burden, including through the use of automated techniques or other forms of information technology; and (d) whether there are ways to enhance the quality, utility, and clarity of the information.

Summary of Information Collection

PRA Number: OMB 3245-0392.

(1) Title: Regional Clusters.

Description of Respondents: Small and emerging businesses.

Total Estimated Annual Responses: 248.

Total Estimated Annual Hour Burden: 196.

Curtis B. Rich,
Agency Forms Manager.

[FR Doc. 2022-15176 Filed 7-14-22; 8:45 am]

BILLING CODE 8026-09-P